POSTAL SERVICE

39 CFR Part 111

USPS Connect Local Mail

AGENCY: Postal Service™.

ACTION: Final rule.

SUMMARY: The Postal Service is amending Mailing Standards of the United States Postal Service, Domestic Mail Manual (DMM®) in various sections to add a new price category designed to enhance access to our delivery network at the local level to deliver envelopes the same-day or the next-day.

DATES: Effective date: January 22, 2023.

FOR FURTHER INFORMATION CONTACT: Krista Becker at (202) 268-7345 or Garry Rodriguez at (202) 268-7281.

SUPPLEMENTARY INFORMATION: Currently, when business mailers who send documents locally with regular frequency wish to send documents for same-day or next-day delivery, they are directed to use a variety of services that were designed for end-to-end mailing over long distances and are priced accordingly.

The Postal Service initiated a Market Test, USPS Connect Local Mail™, (Docket No. MT2022-1, PRC Order No. 6038) on January 9, 2022, to offer improved access to the Postal Service network for local mailers that leveraged the Postal Service's “last-mile” infrastructure to create an economical new solution for customers.

USPS Connect Local Mail is a new commercial First-Class Mail® price category offering, designed to deliver items the same-day or the next-day via a designated delivery unit to every address served by that delivery unit where available.

The flat price is the same for the two USPS-produced envelopes offered by the Postal Service and a customer's own envelope. The USPS Connect Local Mail price category is intended to be used for documents and paper-based content only. USPS Click-N-Ship® or USPS API will be the required payment methods, providing the shipping label with a trackable Intelligent Mail® package barcode (IMpb®) and postage payment.

There are no extra services available with USPS Connect Local Mail. USPS Tracking Plus® additional mailing service will be available for USPS Connect Local Mail.

On October 11, 2022, the Postal Service filed a request with the Postal Regulatory Commission to make the USPS Connect Local Mail price category a permanent offering. Documents pertinent to the request are available in Docket No. MC2023-12.

The Postal Service believes this new offering will provide customers with a service that will enhance their mailing experience.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Flats, and Parcels

* * * * *

202 Elements on the Face of a Mailpiece

* * * * *

3.0 Placement and Content of Mail Markings

* * * * *

3.5 First-Class Mail and USPS Marketing Mail Markings

Mailpieces must be marked under the corresponding standards to show the class of service and/or price paid:

a. Basic Marking. The basic required marking that indicates the class or subclass which must be printed or produced as part of; directly below; or to the left of the permit imprint, meter imprint, or stamp as follows:

* * * * *

[Renumber items a2 through a4 as items a3 through a5 and add new item a2 to read as follows:]

2. “USPS Connect Local Mail”

* * * * *

230 Commercial Mail First-Class Mail

233 Prices and Eligibility

1.0 Prices and Fees

1.1 Price Application

[Revise the text of 1.1 to read as follows:]

Except for USPS Connect Local Mail under 1.2.3, postage is based on the price that applies to the weight of each addressed piece.

1.2 Price Computation for First-Class Mail Letters and Flats

* * * * *

1.2.2 Flats

[Revise the text of 1.2.2 to read as follows:]

Except for USPS Connect Local Mail under 1.2.3, First-Class Mail flats prices are charged per ounce up to the maximum of 13 ounces. Any fraction of an ounce is considered a whole ounce. For example, if a piece weighs 1.2 ounces, the weight (postage) increment is 2 ounces.

[Add new 1.2.3 to read as follows:]

1.2.3 USPS Connect Local Mail

USPS Connect Local Mail price is not based on weight, but is charged a flat price regardless of actual weight (up to 13 ounces) of the mailpiece.

[Revise the heading and text of 1.3 to read as follows:]

1.3 First-Class Mail Prices

For prices of all First-Class Mail price categories under 1.2, see Notice 123—Price List.

[Delete 1.4 in its entirety and renumber 1.5 through 1.7 as 1.4 through 1.6.]

* * * * *

2.0 Content Standards for First-Class Mail

2.1 General

[Revise the text of 2.1 to read as follows:]

Except for restricted material as described in 601.8.0 or USPS Connect Local Mail under 7.0, any mailable item may be mailed as First-Class Mail.

* * * * *

3.0 Basic Eligibility Standards for First-Class Mail

3.1 Description of Service

3.1.1 Service Description

[Revise the text of 3.1.1 by adding a new second sentence to read as follows:]

* * * USPS Connect Local Mail is a price category of First-Class Mail with an expected same-day or next day delivery service. * * *

* * * * *

[Add new 7.0 to read as follows:]

7.0 USPS Connect Local Mail

USPS Connect Local Mail mailings are subject to the following criteria:

a. No minimum volume requirement.

b. Pieces must not exceed flat-size dimensions under 201.4.1.

c. USPS Connect Local Mail price category is designed to be used for documents and paper-based contents only.

d. Two USPS-produced USPS Connect Local Mail envelopes are offered by the Postal Service or a customer may use their own envelope.

e. Postage must be paid under 234.1.2.

f. Pieces are subject to specific marking requirements under 202.3.5.

g. Mailings must be addressed and entered at the designated entry unit by the critical entry time for same day delivery.

h. There are no extra services available with USPS Connect Local Mail.

i. USPS Tracking Plus® additional mailing service will be available for USPS Connect Local Mail.

* * * * *

234 Postage Payment and Documentation

1.0 Basic Standards for Postage Payment

[Revise the text of 1.0 by renumbering the current text as 1.1 and adding a new 1.2 to read as follows:]

1.1 General

First-Class Mail presorted and automation postage must be paid with precanceled stamps, metered postage, or permit imprints. All pieces in a mailing must be paid with the same method unless otherwise permitted by standard or Business Acceptance Solutions authorization. Permit imprints may be used for mailings of nonidentical-weight pieces only if authorized by the director, Business Acceptance Solutions (see 608.8.0 for address).

1.2 USPS Connect Local Mail

USPS Connect Local Mail mailings must be paid with USPS Click-N-Ship or USPS API.

* * * * *

235 Mail Preparation

1.0 General Definition of Terms

* * * * *

[Add new 1.6 to read as follows:]

1.6 USPS Connect Local Mail

There are no sorting requirements for USPS Connect Local Mail pieces.

* * * * *

[Add a new 9.0 to read as follows:]

9.0 Preparing USPS Connect Local Mail

USPS Connect Local Mail envelopes provided by the USPS must be used only for USPS Connect Local Mail priced pieces.

* * * * *

236 Enter and Deposit

1.0 Deposit

* * * * *

1.2 Time and Location of Deposit

[Revise the text of 1.2 by renumbering the current text as 1.2.1 and adding new 1.2.2 to read as follows:]

1.2.1 General

First-Class Mail paid at Presorted or any automation prices must be deposited at locations and times designated by the postmaster. Metered mail must be deposited in locations under the jurisdiction of the licensing Post Office except as permitted in 604.4.6.3. Permit imprint mail must be deposited under 604.5.0 or 705.

1.2.2 USPS Connect Local

USPS Connect Local Mail pieces must be mailed at the designated entry unit.

* * * * *

Index

* * * * *

U

* * * * *

[Add “USPS Connect Local Mail, 233” alphabetically under “U”.]

* * * * *

Notice 123, Price List

[Add USPS Connect Local Mail price category under the commercial First-Class Mail section.]

* * * * *

Ruth B. Stevenson,
Chief Counsel, Ethics and Legal Compliance.

[FR Doc. 2022-22726 Filed 10-19-22; 8:45 am]

BILLING CODE 7710-12-P